DEPARTMENT OF THE TREASURY

Bureau of Alcohol, Tobacco and Firearms

[Notice No. 949; ATF O 1130.29]

Delegation Order—Delegation of The Director's Authorities in 27 CFR Part 26, Liquors and Articles From Puerto Rico and the Virgin Islands

To: All Bureau Supervisors

1. Purpose. This order delegates certain authorities of the Director to subordinate ATF officers and prescribes the subordinate ATF officers with whom persons file documents which are not ATF forms.

2. Background. The Director has the authority to take final action on matters relating to liquors and articles from Puerto Rico and the Virgin Islands. Certain of these authorities have been delegated to lower organizational levels through ATF O 1130.23—Delegation Order—Delegation of the Director's Authorities in 27 CFR part 250, Liquors and Articles from Puerto Rico and the Virgin Islands. ATF is currently restructuring the part numbering system in title 27 of the Code of Federal Regulations (CFR). The regulations relating to liquors and articles from Puerto Rico and the Virgin Islands, previously located in 27 CFR part 250, are now recodified as 27 CFR part 26. Due to this restructuring, ATF O 1130.23 must be cancelled and a new order must be issued to reflect the new part number.

3. Cancellation. ATF O 1130.23, Delegation Order—Delegation of the Director's Authorities in 27 CFR part 250, Liquors and Articles from Puerto Rico and the Virgin Islands, dated 8/13/2001, is canceled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR part 26 to subordinate officials. Also, this ATF order prescribes the subordinate officials with whom applications, notices, and reports required by 27 CFR part 26, which are not ATF forms, are filed. The attached table identifies the regulatory sections, authorities and documents to be filed, and the authorized ATF officials. The authorities in the table may not be redelegated.

5. Questions. If you have questions about this ATF order, contact the Regulations Division (202-927-8210).

Bradley A. Buckles,
Director.

Regulatory section | Officer(s) authorized to act or receive document.
§ 26.2(a) | Chief or Deputy Chief, Regulations Division
§ 26.11—liquor bottle definition | Specialist, Alcohol Labeling and Formulation Division (ALFD)
§ 26.37 | Inspector, Specialist or Special Agent
§ 26.43 | Chemist, Inspector, Specialist or Special Agent
§ 26.52(b) and (c) | Chief, Puerto Rico Operations
§ 26.62a | Chief, Puerto Rico Operations
§ 26.65 | Chief, Puerto Rico Operations
§ 26.70 | Chief, Puerto Rico Operations
§ 26.70a | Specialist, Puerto Rico Operations
§ 26.71(c) and (d) | Chief, Puerto Rico Operations
§ 26.72 | Chief, Puerto Rico Operations
§ 26.74 | Chief, Puerto Rico Operations
§ 26.75 | Chief, Puerto Rico Operations
§ 26.81 | Chief, Puerto Rico Operations
§ 26.96 | Chief, Puerto Rico Operations
§ 26.105 | Chief, Puerto Rico Operations
§ 26.110 | Chief, Puerto Rico Operations
§ 26.112(c)(1) and (4) and (e) | Chief, Puerto Rico Operations
§ 26.112a(b)(1) and (3) and (c)(1) | Chief, Puerto Rico Operations
§ 26.116 | Inspector, Specialist or Special Agent
§ 26.119 | Chief, Puerto Rico Operations, to whom forms are forwarded. Inspector, Specialist or Special Agent to examine forms.
§ 26.126 | Chief, Puerto Rico Operations
§ 26.128 | Inspector, Specialist or Special Agent
§ 26.173(a) | Chief, Puerto Rico Operations
§ 26.174(a) and (e) | Inspector, Specialist or Special Agent
§ 26.193(b) | Chief, Puerto Rico Operations
§ 26.194 | Area Supervisor or Chief, Puerto Rico Operations
§ 26.197 | Unit Supervisor, National Revenue Center (NRC)
§ 26.209 | Specialist, Regulations Division, or Chemist, ATF Laboratory
§ 26.222(b) and (c) | Chief, Puerto Rico Operations
§ 26.275(a) | Section Supervisor, NRC to authorize files to be located at another business location. Inspector, Specialist or Special Agent to examine files.
§ 26.276 | Inspector, Specialist or Special Agent to inspect and copy records. Director of Industry Operations to extend record retention.
§ 26.303 | Section Chief, NRC
§ 26.309(a) | Chief, Puerto Rico Operations
§ 26.310(a) and (e) | Inspector, Specialist or Special Agent
§ 26.314(b) | Specialist, ALFD
§ 26.316 | Specialist, ALFD
§ 26.318 | Specialist, ALFD
§ 26.319 | Section Chief, NRC
§ 26.331 | Chief or Deputy Chief, Regulations Division

BILLING CODE 4810-31-P

[FR Doc. 02-19129 Filed 7-29-02; 8:45 am]

BILLING CODE 4810-31-C